SECURITIES AND EXCHANGE COMMISSION

[File No. 500-1]

American Environmental Corp.; (n/k/a TrackBets International, Inc.), BAM! Entertainment, Inc., Entertainment Technologies & Programs, Inc., Inter Con PC, Inc., Rudy Nutrition, Trans Global Services, Inc., XCL Ltd., and ZymeTx, Inc.; Order of Suspension of Trading

September 12, 2008.

It appears to the Securities and Exchange Commission that there is a lack of current and accurate information concerning the securities of American Environmental Corp. (n/k/a TrackBets International, Inc.) because it has not filed any periodic reports since it filed a Form 10-SB-12G with the Commission on June 24, 1999.

It appears to the Securities and Exchange Commission that there is a lack of current and accurate information concerning the securities of BAM! Entertainment, Inc. because it has not filed any periodic reports since the period ended March 31, 2004.

It appears to the Securities and Exchange Commission that there is a lack of current and accurate information concerning the securities of Entertainment Technologies & Programs, Inc. because it has not filed any periodic reports since the period ended June 30, 2003.

It appears to the Securities and Exchange Commission that there is a lack of current and accurate information concerning the securities of Inter Con PC, Inc. because it has not filed any periodic reports since the period ended March 31, 2001.

It appears to the Securities and Exchange Commission that there is a lack of current and accurate information concerning the securities of Rudy Nutrition because it has not filed any periodic reports since the period ended September 30, 2005, except for the periodic report filed for the period ended March 31, 2008.

It appears to the Securities and Exchange Commission that there is a lack of current and accurate information concerning the securities of Trans Global Services, Inc. because it has not filed any periodic reports since the period ended December 31, 2002.

It appears to the Securities and Exchange Commission that there is a lack of current and accurate information concerning the securities of XCL Ltd. because it has not filed any periodic reports since the period ended September 30, 1999.

It appears to the Securities and Exchange Commission that there is a lack of current and accurate information concerning the securities of ZymeTx, Inc. because it has not filed any periodic reports since the period ended December 31, 2001.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 12, 2008, through 11:59 p.m. EDT on September 25, 2008.

By the Commission.
J. Lynn Taylor,
Assistant Secretary.

[FR Doc. E8-21649 Filed 9-12-08; 11:15 am]

BILLING CODE 8010-01-P